DEPARTMENT OF THE INTERIOR

Fish and Wildlife Service

[Docket No. FWS-HQ-IA-2024-0118; FXIA16710900000-245-FF09A30000]

Endangered Species; Issuance of Permits

AGENCY: Fish and Wildlife Service, Interior.

ACTION: Notice of issuance of permits.

SUMMARY: We, the U.S. Fish and Wildlife Service (Service), have issued permits to conduct certain activities with endangered species. We issue these permits under the Endangered Species Act (ESA).

ADDRESSES: Information about the applications for the permits listed in this notice is available at https://www.regulations.gov. See SUPPLEMENTARY INFORMATION for details.

FOR FURTHER INFORMATION CONTACT: Timothy MacDonald, by phone at 703-358-2185 or via email at DMAFR@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service (Service), have issued permits to conduct certain activities with endangered and threatened species in response to permit applications that we received under the authority of section 10(a)(1)(A) of the Endangered Species Act of 1973 (16 U.S.C. 1531 et seq.).

After considering the information submitted with each permit application and the public comments received, we issued the requested permits subject to certain conditions set forth in each permit. For each application for an endangered species, we found that (1) the application was filed in good faith, (2) the granted permit would not operate to the disadvantage of the endangered species, and (3) the granted permit would be consistent with the purposes and policy set forth in section 2 of the ESA.

Availability of Documents

The permittees' original permit application materials, along with public comments we received during public comment periods for the applications, are available for review. To locate the application materials and received comments, go to https://www.regulations.gov and search for the appropriate permit number (e.g., 12345C) provided in table 1.

Table 1—Permits Issued
ePermit No. | Applicant | Permit issuance date
PER8631906 | Tyler Zirpel | June 3, 2024.
PER8710173 | Ronald Carter | June 3, 2024.
PER10054100 | San Diego Zoo Wildlife Alliance, dba Zoological Society of San Diego | June 6, 2024.
PER10046934 | Lincoln Park Zoo | June 12, 2024.
PER9889816 | Washington University in St. Louis | June 18, 2024.
PER8605010 | Erich Jarvis, c/o Rockefeller University | June 25, 2024.
PER9700548 | Peck's Wildwood Wildlife Park and Nature Center | June 25, 2024.

Authority

We issue this notice under the authority of the Endangered Species Act, as amended (16 U.S.C. 1531 et seq.), and its implementing regulations.

Timothy MacDonald,
Government Information Specialist, Branch of Permits, Division of Management Authority.

[FR Doc. 2024-15088 Filed 7-9-24; 8:45 am]

BILLING CODE 4333-15-P